NUCLEAR REGULATORY COMMISSION

Notice of Issuance of Regulatory Guide

AGENCY: Nuclear Regulatory Commission.

ACTION: Notice of Issuance and Availability of Regulatory Guide 3.66, Revision 1.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) has issued revisions to existing guides in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 3.66, “Standard Format and Content of Financial Assurance Mechanisms,” was issued with a temporary identification as Draft Regulatory Guide DG-3028. This regulatory guide provides guidance for the financial assurance mechanisms required for decommissioning leading to termination of a materials license. At the end of licensed operations, licensees must maintain all financial assurance established pursuant to Title 10 of the Code of Federal Regulations (10 CFR). In particular, licensees are required to demonstrate compliance with the following parts of 10 CFR:

• Part 30, “Rules of General Applicability to Domestic Licensing of Byproduct Material”;

• Part 40, “Domestic Licensing of Source Material”;

• Part 70, “Domestic Licensing of Special Nuclear Material”;

• Part 72, “Licensing Requirements for the Independent Storage of Spent Nuclear Fuel and High-Level Radioactive Waste, and Reactor Related Greater Than Class C Waste”.

NRC licensees must demonstrate financial assurance for decommissioning and, if applicable, for site control and maintenance following license termination.

This regulatory guide endorses the method described in the current revisions of NUREG-1757, Volume 1, “Consolidated Decommissioning Guidance: Decommissioning Process for Materials Licensees” and Volume 3, “Consolidated NMSS Decommissioning Guidance: Financial Assurance, Recordkeeping, and Timeliness” as a process that has been found acceptable to the NRC for meeting the regulatory requirements.

II. Further Information

In February 2008, DG-3028 was published with a public comment period of 60 days from the issuance of the guide. The public comment period closed on April 18, 2008. Electronic copies of Regulatory Guide 3.66, Revision 1 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 22th day of May, 2008.
For the Nuclear Regulatory Commission.
Andrea D. Valentin,
Chief, Regulatory Guide Development Branch, Division of Engineering, Office of Nuclear Regulatory Research.

[FR Doc. E8-12083 Filed 5-29-08; 8:45 am]

BILLING CODE 7590-01-P